DEPARTMENT OF COMMERCE

International Trade Administration

[A-570-073, C-570-074]

Common Alloy Aluminum Sheet From the People's Republic of China: Rescission of Circumvention Inquiry on the Antidumping Duty and Countervailing Duty Orders

AGENCY: Enforcement and Compliance, International Trade Administration, Department of Commerce.

SUMMARY: Based on a withdrawal of the circumvention inquiry request, the U.S. Department of Commerce (Commerce) is rescinding this circumvention inquiry that was initiated to determine whether imports of common alloy aluminum sheet (CAAS) produced in the Republic of Korea (Korea) by Gwangyang Aluminum Industries Co., Ltd. (Gwangyang Aluminum), completed or assembled using non-subject flat rolled aluminum having a thickness greater than 6.3 millimeters (mm) produced by Henan Mingtai Aluminum Industry Co., Ltd. (Henan Mingtai) or Zhengzhou Mingtai Industry Co., Ltd. (Zhengzhou Mingtai) in the People's Republic of China (China), is circumventing the antidumping duty (AD) and countervailing duty (CVD) orders on CAAS from China.

DATES: Applicable December 12, 2023.

FOR FURTHER INFORMATION CONTACT: Frank Schmitt, AD/CVD Operations, Office VI, Enforcement and Compliance, International Trade Administration, U.S. Department of Commerce, 1401 Constitution Avenue NW, Washington, DC 20230; telephone: (202) 482-4880.

SUPPLEMENTARY INFORMATION:

Background

On February 6 and 8, 2019, respectively, Commerce published the CVD and AD orders on imports of CAAS from China.¹ On May 23, 2023, the Aluminum Association Common Alloy Aluminum Sheet Trade Enforcement Working Group and its individual members (the domestic industry) ² filed a circumvention inquiry request alleging that imports of CAAS produced in Korea by Gwangyang Aluminum, assembled or completed using flat rolled aluminum having a thickness greater than 6.3 mm (aluminum plate) produced by Henan Mingtai ³ in China, is circumventing the Orders.⁴ On July 13, 2023, Commerce initiated a circumvention inquiry regarding the above-referenced merchandise.⁵ On November 2, 2023, the domestic industry withdrew its circumvention inquiry request.⁶

¹ See Common Alloy Aluminum Sheet from the People's Republic of China: Countervailing Duty Order, 84 FR 2157 (February 6, 2019); and Common Alloy Aluminum Sheet from the People's Republic of China: Antidumping Duty Order, 84 FR 2813 (February 8, 2019) (collectively, Orders).

² The individual members of the Aluminum Association Common Alloy Aluminum Sheet Trade Enforcement Working Group are: Arconic Corporation; Commonwealth Rolled Products, Inc.; Constellium Rolled Products Ravenswood, LLC; Jupiter Aluminum Corporation; JW Aluminum Company; and Novelis Corporation.

³ Commerce previously determined that Henan Mingtai and Zhengzhou Mingtai are a single entity. See Antidumping Duty Investigation of Common Alloy Aluminum Sheet from the People's Republic of China: Affirmative Preliminary Determination of Sales at Less-Than-Fair Value, Preliminary Affirmative Determination of Critical Circumstances, and Postponement of Final Determination, 83 FR 29088 (June 2022, 2018), and accompanying Preliminary Decision Memorandum at 19, unchanged at Antidumping Duty Investigation of Common Alloy Aluminum Sheet from the People's Republic of China: Affirmative Final Determination of Sales at Less-Than-Fair Value, 83 FR 57421 (November 15, 2018). Accordingly, for the purposes of this circumvention inquiry, we considered aluminum plate produced by Henan Mingtai and Zhengzhou Mingtai (collectively, Mingtai) rather than aluminum plate produced by only Henan Mingtai.

⁴ See Domestic Industry's Letter, “Domestic Industry Request for Circumvention Ruling Pursuant to Section 781(b) of the Tariff Act of 1930, As Amended and Scope Ruling Pursuant to 19 CFR 351.225,” dated May 23, 2023.

⁵ See Common Alloy Aluminum Sheet from the People's Republic of China: Initiation of Circumvention Inquiry of the Antidumping and Countervailing Duty Orders; Aluminum Sheet Further Processed in the Republic of Korea, 88 FR 44779 (July 13, 2023) (Initiation Notice).

⁶ See Domestic Industry's Letter, “Domestic Industry's Withdrawal of Request for Circumvention Ruling Pursuant to Section 781(b) of the Tariff Act of 1930,” dated November 2, 2023 (Withdrawal Request).

Scope of the Orders

The merchandise covered by the Orders is common alloy aluminum sheet from China. For a complete description of the scope of the Orders, see the Initiation Checklist.⁷

⁷ See Initiation Notice and accompanying Checklist, “Circumvention Initiation Checklist,” dated July 7, 2023, at Attachment 1.

Merchandise Subject to the Circumvention Inquiry

The circumvention inquiry covers CAAS produced by Gwangyang Aluminum in Korea, assembled or completed using flat rolled aluminum having a thickness greater than 6.3 mm produced by Mingtai in China, and exported to the United States.

Rescission of Circumvention Inquiry

As noted above, the domestic industry has withdrawn its request for a circumvention inquiry on CAAS produced by Gwangyang Aluminum in Korea, assembled or completed using flat rolled aluminum having a thickness greater than 6.3 mm produced by Mingtai in China, and exported to the United States.⁸ Therefore, in accordance 19 CFR 351.226(f)(6)(i), Commerce finds that it is appropriate to rescind this circumvention inquiry in its entirety.

⁸ See Withdrawal Request.

Suspension of Liquidation

Pursuant to 19 CFR 351.226(l)(1), Commerce notified U.S. Customs and Border Protection (CBP) of the initiation of this circumvention inquiry and directed CBP to continue the suspension of liquidation of entries of products subject to the circumvention inquiry that were already subject to the suspension of liquidation under the Orders and to apply the cash deposit rate that would be applicable if the products were determined to be covered by the scope of the Orders.⁹ Upon publication of this rescission notice, Commerce will inform CBP that Commerce has rescinded this inquiry and that CBP should continue to suspend entries of common alloy aluminum sheet from China that are subject to the Orders at the applicable rate(s) in effect on the date of entry until specific liquidation instructions are issued.

⁹ See CBP Message 3201402, “Initiation of Circumvention Inquiry—Antidumping and Countervailing Duty Orders on Common Alloy Aluminum Sheet from the People's Republic of China (A-570-073, C-570-074),” dated July 20, 2023.

Administrative Protective Order

This notice serves as a final reminder to parties subject to an administrative protective order (APO) of their responsibility concerning the return or destruction of proprietary information disclosed under APO in accordance with 19 CFR 351.305(a)(3), which continues to govern business proprietary information in this segment of the proceeding. Timely written notification of the return or destruction of the APO materials or conversion to judicial protective order is hereby requested. Failure to comply with regulations and terms of an APO is a violation, which is subject to sanction.

Notification to Interested Parties

This notice is issued and published in accordance with section 781 of the Tariff Act of 1930, as amended, and 19 CFR 351.226(f)(6).

Dated: December 5, 2023.
Abdelali Elouaradia,
Deputy Assistant Secretary for Enforcement and Compliance.

[FR Doc. 2023-27177 Filed 12-11-23; 8:45 am]

BILLING CODE 3510-DS-P